DEPARTMENT OF COMMERCE

National Oceanic and Atmospheric Administration

[RTID 0648-XA226]

Marine Mammals and Endangered Species

AGENCY: National Marine Fisheries Service (NMFS), National Oceanic and Atmospheric Administration (NOAA), Commerce.

ACTION: Notice; issuance of permits and permit modifications.

SUMMARY: Notice is hereby given that permits and permit modifications have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Hapeman (Permit Nos. 22156 and 23203), Shasta McClenahan (Nos. 21418 and 23220), and Erin Markin (Nos. 20528-02 and 23807); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in Table 1 below.

Table 1—Issued Permits and Permit Modifications
Permit No. | RTID | Applicant | Previous Federal Register Notice | Permit or Amendment Issuance Date
20528-02 | 0648-XR109 | South Carolina Department of Natural Resources, 217 Fort Johnson Road, Charleston, SC 29412 (Responsible Party: Bill Post) | 85 FR 20678; April 14, 2020 | May 28, 2020.
21418 | 0648-XA096 | NMFS Alaska Fisheries Science Center's Marine Mammal Laboratory, 7600 Sand Point Way NE, Seattle, WA 98115-6349 (Responsible Party: John Bengtson, Ph.D.) | 85 FR 17540; March 30, 2020 | May 11, 2020.
22156 | 0648-XR002 | Douglas Nowacek, Ph.D., Nicholas School of the Environment, Duke University Marine Laboratory, 135 Duke Marine Lab Rd, Beaufort, NC 28516 | 84 FR 70501; December 23, 2019 | May 8, 2020.
23203 | 0648-XR093 | Environmental Institute of Houston at the University of Houston, Clear Lake, 2700 Bay Area Blvd, Box 540, Houston, TX 77508-1002 (Responsible Party: George Guillen) | 85 FR 8572; February 14, 2020 | May 27, 2020.
23220 | 0648-XR037 | Andrew Trites, Ph.D., University of British Columbia, Room 247, Aquatic Ecosystems Research Laboratory, 2202 Main Mall, Vancouver, BC | 85 FR 7296; February 7, 2020 | May 13, 2020.
23807 | 0648-XR107 | Plimsoll Productions Limited, 51-55 Whiteladies Road, Bristol, BS8 2LY, United Kingdom (Responsible Party: Anuschka Schofield) | 85 FR 17867; March 31, 2020 | May 14, 2020.

In compliance with the National Environmental Policy Act of 1969 (42 U.S.C. 4321 et seq.), a final determination has been made that the activities proposed are categorically excluded from the requirement to prepare an environmental assessment or environmental impact statement.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: June 8, 2020.
Julia Marie Harrison,
Chief, Permits and Conservation Division, Office of Protected Resources, National Marine Fisheries Service.

[FR Doc. 2020-12662 Filed 6-10-20; 8:45 am]

BILLING CODE 3510-22-P